DEPARTMENT OF ENERGY

Federal Energy Regulatory Commission

[Docket No. CP02-416-000]

Williams Gas Pipelines Central Incorporated; Notice of Intent To Prepare an Environmental Assessment for the Proposed Southwest Missouri Expansion Project and Request for Comments on Environmental Issues

September 11, 2002.

The staff of the Federal Energy Regulatory Commission (FERC or Commission) will prepare an environmental assessment (EA) that will discuss the environmental impacts of Williams Gas Pipelines Central Incorporated's (Williams) proposed Southwest Missouri Expansion Project in Cherokee County, Kansas, and Jasper and Newton Counties, Missouri.¹ This EA will be used by the Commission in its decision-making process to determine whether the project is in the public convenience and necessity.

¹ Williams' application was filed under section 7(c) of the Natural Gas Act and Part 157 of the Commission's regulations on July 31, 2002.

If you are a landowner receiving this notice, you may be contacted by a Williams representative about the acquisition of an easement to construct, operate, and maintain the proposed facilities. The pipeline company would seek to negotiate a mutually acceptable agreement. However, if the project is approved by the Commission, that approval conveys with it the right of eminent domain. Therefore, if easement negotiations fail to produce an agreement, Williams could initiate condemnation proceedings in accordance with state law.

A fact sheet prepared by the FERC entitled “An Interstate Natural Gas Facility On My Land? What Do I Need To Know?” should have been attached to the project notice Petal provided to landowners. This fact sheet addresses a number of typically asked questions, including the use of eminent domain and how to participate in the Commission's proceedings. It is available for viewing on the FERC Internet Web site (http://www.ferc.gov).

This Notice of Intent (NOI) is being sent to landowners along William's proposed pipeline route; Federal, state, and local government agencies; national elected officials; regional environmental and public interest groups; Indian tribes that might attach religious and cultural significance to historic properties in the area of potential effects; local libraries and newspapers; and the Commission's list of parties to the proceeding. Government representatives are encouraged to notify their constituents of this proposed action and encourage them to comment on their areas of concern. Additionally, with this NOI we ² are asking Federal, state, local, and tribal agencies with jurisdiction and/or special expertise with respect to environmental issues to cooperate with us in the preparation of the EA. These agencies may choose to participate once they have evaluated William's proposal relative to their agencies' responsibilities. Agencies who would like to request cooperating status should follow the instructions for filing comments described below.

² ”We,” “us,” and “our” refer to the environmental staff of the FERC's Office of Energy Projects.

Summary of the Proposed Project

Williams proposes to construct, expand, own, operate and maintain certain natural gas facilities in order to increase incremental firm transportation service to two existing customers: Empire District Electric Company and Kansas Gas Service. The action would include: Constructing 15.67 miles of 20-inch-diameter pipeline, beginning at the end of William's existing Southern Trunk 20-inch-diameter FR pipeline in Cherokee County, Kansas, and ending at Williams' existing meter station for the Empire Power Plant in Jasper County, Missouri; removing and relocating the pig trap currently at the end of the Southern Trunk 20-inch-diameter FR pipeline to the end of the new 15.67-mile-long 20-inch-diameter pipeline at the Empire Power Plant meter station; and upgrading piping at Williams' existing Saginaw Compressor Station in Newton County, Missouri to increase maximum allowable operating pressure from 820 pounds per square inch gauge (psig) to 900 psig. The general location of the facilities proposed by Williams is shown on the map attached as appendix 1.³

³ The appendices referenced in this notice are not being printed in the Federal Register. Copies are available for review at the Commission's Public Reference Room during normal business hours (8:30 a.m. to 5 a.m. Eastern time) at 888 First Street, NE., Room 2A, Washington, DC 20426, or call (202) 502-8371, or on the FERC Internet website (www.ferc.gov) using the FERRIS link. For instructions on connecting to FERRIS refer to the last page of this notice. Copies of the appendices were sent to all those receiving this notice in the mail.

Land Requirements for Construction

Construction of the facilities proposed by Williams would affect a total of about 143 acres of land. About 95 acres would be converted into new permanent right-of-way. The remaining land would only be used temporarily, and after construction would be restored to its previous condition and use. About 58 percent of the pipeline route would parallel existing pipeline, railroad, or overhead electric power line rights-of-way.

The EA Process

The National Environmental Policy Act (NEPA) requires the Commission to take into account the environmental impacts that could result from an action whenever it considers the issuance of a Certificate of Public Convenience and Necessity. NEPA also requires us to discover and address concerns the public may have about proposals. We call this “scoping.” The main goal of the scoping process is to focus the analysis in the EA on the important environmental issues. By this NOI, the Commission requests public comments on the scope of the issues it will address in the EA. All comments received are considered during the preparation of the EA.

Our independent analysis of the issues will be in the EA. We will also evaluate possible alternatives to the proposed action, or portions of the project, and make recommendations on how to lessen or avoid impacts on various environmental resources.

Depending on the comments received during the scoping process, the EA may be published and mailed to Federal, state, and local agencies, elected officials, affected landowners, regional public interest groups, Indian tribes, local newspapers and libraries, and the Commission's official service list for this proceeding. A comment period will be allotted for review if the EA is published. We will consider all comments on the EA before we make our recommendations to the Commission.

Currently Identified Environmental Issues

The EA will discuss impacts that could occur as a result of construction and operation of the proposed project. We have already identified a number of issues that we think deserve attention based on a preliminary review of the proposed facilities and the environmental information provided by Williams. This preliminary list of issues may be changed based on your comments and our analysis.

Geology and Soils

—Crossing 8.6 miles of soils with potential for erosion.

—Pipeline construction could affect 44 acres of agricultural land.

Water Resources and Wetlands

—Crossing 5 perennial waterbodies within Spring River drainage.

—Pipeline construction could affect about 2 acres of wetlands.

Vegetation and Wildlife

—Pipeline construction could affect about 6 acres of forest.

—5 areas containing habitat for sensitive state species would be crossed.

Cultural Resources

—6 archaeological sites identified in the project vicinity.

—Native American concerns.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

Send an original and two copies of your letter to: Magalie R. Salas, Secretary, Federal Energy Regulatory Commission, 888 First St., NE., Room 1A, Washington, DC 20426; Label one copy of the comments for the attention of the Gas/Hydro Branch, PJ-11.3; Reference Docket No. CP02-416-000; and Mail your comments so that they will be received in Washington, DC on or before October 18, 2002.

Please note that we are continuing to experience delays in mail deliveries from the U.S. Postal Service. As a result, we will include all comments that we receive within a reasonable time frame in our environmental analysis of this project. However, the Commission strongly encourages electronic filing of any comments, interventions or protests to this proceeding. See 18 CFR 385.2001(a)(1)(iii) and the instructions on the Commission's Internet Web site at http://www.ferc.gov under the “e-Filing” link and the link to the User's Guide. Before you can file comments you will need to create a free account which can be created by clicking on “Login to File” and then “New User Account.”

We might mail the EA for comments. If you are interested in receiving it, please return the Information Request (appendix 2). If you do not return the Information Request, you will be taken off the mailing list.

Becoming an Intervenor

In addition to involvement in the EA scoping process, you may want to become an official party to the proceeding known as an intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the proposed project is available from the Commission's Office of External Affairs at 1-866-208-FERC or on the FERC Internet website (www.ferc.gov) using the FERRIS link.

Click on the FERRIS link, enter the docket number excluding the last three digits in the Docket Number field. Be sure you have selected an appropriate date range. For assistance with FERRIS, the FERRIS helpline can be reached at (202) 502-8222, TTY (202) 502-8659. The FERRIS link on the FERC Internet website also provides access to the text of formal documents issued by the Commission, such as orders, notices, and rulemakings.

Magalie R. Salas,
Secretary.

[FR Doc. 02-23567 Filed 9-16-02; 8:45 am]

BILLING CODE 6717-01-P